DEPARTMENT OF TRANSPORTATION

Federal Aviation Administration

14 CFR Part 71

[Docket No. FAA-2016-8827; Airspace Docket No. 16-ASW-12]

Proposed Amendment of Class D and E Airspace for the Following Texas Towns; Georgetown, TX; Corpus Christi, TX; Dallas/Fort Worth, TX; Gainesville, TX; Graford, TX; Hebbronville, TX; and Jasper, TX

AGENCY: Federal Aviation Administration (FAA), DOT.

ACTION: Notice of proposed rulemaking (NPRM).

SUMMARY: This action proposes to modify Class D airspace at Georgetown Municipal Airport, Georgetown, TX, and modify Class E airspace extending upward from 700 feet above the surface at Rockport Aransas County Airport, Corpus Christi, TX; Lancaster Airport, Dallas/Fort Worth, TX; Gainesville Municipal Airport, Gainesville, TX; Georgetown Municipal Airport, Georgetown, TX; (Hebbronville, TX) O.S. Wyatt Airport, Realitos, TX; and Jasper County-Bell Field, Jasper, TX. Decommissioning of non-directional radio beacons (NDBs), cancellation of NDB approaches, and implementation of area navigation (RNAV) procedures have made this action necessary for the safety and management of Instrument Flight Rules (IFR) operations at these airports. Additionally, the geographic coordinates at Corpus Christi International Airport; the Corpus Christi VORTAC; Aransas County Airport, Rockport, TX; Nueces County Airport, Robstown, TX; Dallas/Fort Worth International Airport, Dallas/Fort Worth, TX; McKinney National Airport, McKinney, TX; Lancaster Airport; Bourland Field Airport, Fort Worth, TX; and Jasper County-Bell Field would be adjusted to coincide with the FAA's aeronautical database. Also, the names of McCampbell-Porter Airport (formerly T.P. McCampbell Airport); McKinney National Airport (formerly Collin County Regional Airport); and Ralph M. Hall/Rockwall Municipal Airport (formerly Rockwall Municipal Airport) would be updated to coincide with the FAA's aeronautical database.

DATES: Comments must be received on or before October 24, 2016.

ADDRESS: Send comments on this proposal to the U.S. Department of Transportation, Docket Operations, West Building Ground Floor, Room W12-140, 1200 New Jersey Avenue SE., Washington, DC 20590; telephone (202) 366-9826, or 1-800-647-5527. You must identify FAA Docket No. FAA-2016-8827; Airspace Docket No. 16-ASW-12, at the beginning of your comments. You may also submit comments through the Internet at http://www.regulations.gov. You may review the public docket containing the proposal, any comments received, and any final disposition in person in the Dockets Office between 9:00 a.m. and 5:00 p.m., Monday through Friday, except Federal holidays.

FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: 202-267-8783. The Order is also available for inspection at the National Archives and Records Administration (NARA). For information on the availability of FAA Order 7400.9Z at NARA, call 202-741-6030, or go to http://www.archives.gov/federal_register/code_of_federal-regulations/ibr_locations.html. FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it would modify Class D airspace at Georgetown Municipal Airport, Georgetown, TX; modify Class E airspace extending upward from 700 feet above the surface at Rockport Aransas County Airport, Corpus Christi, TX; Lancaster Airport, Dallas/Fort Worth, TX; Gainesville Municipal Airport, Gainesville, TX; Georgetown Municipal Airport, Georgetown, TX; O.S. Wyatt Airport, Realitos, TX; Jasper County-Bell Field, Jasper, TX.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2016-8827/Airspace Docket No. 16-ASW-12.” The postcard will be date/time stamped and returned to the commenter.

Availability of NPRMs

An electronic copy of this document may be downloaded through the Internet at http://www.regulations.gov. Recently published rulemaking documents can also be accessed through the FAA's Web page at http://www.regulations.gov.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents Proposed for Incorporation by Reference

This document proposes to amend FAA Order 7400.9Z, Airspace Designations and Reporting Points, dated August 6, 2015, and effective September 15, 2015. FAA Order 7400.9Z is publicly available as listed in the ADDRESSES section of this document. FAA Order 7400.9Z lists Class A, B, C, D, and E airspace areas, air traffic service routes, and reporting points.

The Proposal

The FAA is proposing an amendment to Title 14 Code of Federal Regulations (14 CFR) Part 71 by modifying:

Class D airspace within a 4.1-mile radius (reduced from a 5-mile radius) of Georgetown Municipal Airport, Georgetown, TX;

Class E airspace extending upward from 700 feet above the surface at Corpus Christi, TX; Within a 6.6-mile radius (reduced from a 7.6-mile radius) of Aransas County Airport, Rockport, TX, with extensions to the north of the airport from the 6.6-mile radius to 10 miles, to the southeast of the airport from the 6.6-mile radius to 10 miles, to the south of the airport from the 6.6-mile radius to 10 miles, and to the northwest of the airport from the 6.6-mile radius to 10 miles, and updating the geographic coordinates of Corpus Christi International Airport (also located in Class E extension airspace), Nueces County Airport, Robstown, TX, and the name of McCampbell-Porter Airport (formerly T.P. McCampbell Airport) to coincide with the FAA's aeronautical database. The Corpus Christi VORTAC listed for Sinton, TX, also would have geographic coordinates updated.

Class E airspace extending upward from 700 feet above the surface at Dallas/Fort Worth, TX;

Within a 6.6-mile radius (increased from a 6.5-mile radius) of the Lancaster Airport, Lancaster, TX, with an extension southeast of the airport from the 6.6-mile radius to 9.2 miles and updating the geographic coordinates of the airport;

By updating the geographic coordinates of Dallas/Fort Worth International Airport, McKinney National Airport, and Bourland Field Airport, and the name of McKinney National Airport (formerly Collin County Regional Airport) and Ralph M. Hall/Rockwall Municipal Airport (formerly Rockwall Municipal Airport) to coincide with the FAA's aeronautical database;

By removing the 10.4-mile segment extending from the 6.6-mile radius of Gainesville Municipal Airport, Gainesville, TX;

Within a 6.6-mile radius (increased from a 6.5-mile radius) of Georgetown Municipal Airport, Georgetown, TX, with extensions to the northwest of the airport from the 6.6-mile radius to 9.8 miles, and to the north of the airport from the 6.6-mile radius to 10.4 miles.

Class E airspace extending upward from 700 feet above the surface at Hebbronville, TX; Within a 6.5-mile radius (reduced from a 6.9-mile radius) of O.S. Wyatt Airport, Realitos, TX;

And within a 6.6-mile radius (increased from a 6.5-mile radius) of Jasper County-Bell Field, Jasper, TX, with an extension to the north of the airport from the 6.6-mile radius to 6.7 miles, and updating the geographic coordinates of the airport to coincide with the FAA's aeronautical database.

Airspace reconfiguration is necessary due to the decommissioning of NDBs, cancellation of NDB approaches, and implementation of RNAV procedures, and would enhance the safety and management of the standard instrument approach procedures for IFR operations at these airports.

Class D and E airspace designations are published in paragraph 5000, 6002, 6003, and 6005, respectively, of FAA Order 7400.9Z, dated August 6, 2015, and effective September 15, 2015, which is incorporated by reference in 14 CFR 71.1. The Class E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 5000 Class D Airspace.

* * * * *

ASW TX D Georgetown, TX [Amended]

Georgetown Municipal Airport, Texas

(Lat. 30°40′44″ N., long. 97°40′46″ W.)

That airspace extending upward from the surface to and including 3,300 feet MSL within a 1-mile radius of Georgetown Municipal Airport. This Class D airspace is effective during the specific dates and times established in advance by a Notice to Airmen. The effective date and time will thereafter be continuously published in the Airport/Facility Directory.

* * * * *

Paragraph 6002 Class E Airspace Designated as Surface Areas.

* * * * *

ASW TX E2 Rockport, TX [Amended]

Aransas County Airport, TX

(Lat. 28°05′10″ N., long. 97°02′37″ W.)

That airspace extending upward from the surface within a 4.1-mile radius of Aransas County Airport.

* * * * *

Paragraph 6003 Class E Airspace Areas Designated as an Extension.

* * * * *

ASW TX E3 Corpus Christi, TX [Amended]

Corpus Christi International Airport, TX

(Lat. 27°46′16″ N., long. 97°30′04″ W.)

Corpus Christi VORTAC

(Lat. 27°54′14″ N., long. 97°26′42″ W.)

That airspace extending upward from the surface within 1.3 miles each side of the 200° radial of the Corpus Christi VORTAC extending from a 5-mile radius of Corpus Christi International Airport to 6.4 miles north of the airport.

* * * * *

Paragraph 6005 Class E Airspace Areas Extending Upward From 700 Feet or More Above the Surface of the Earth.

* * * * *

ASW TX E5 Corpus Christi, TX [Amended]

Corpus Christi International Airport, TX

(Lat. 27°46′16″ N., long. 97°30′04″ W.)

Corpus Christi NAS/Truax Field, TX

(Lat. 27°41′34″ N., long. 97°17′25″ W.)

Port Aransas, Mustang Beach Airport, TX

(Lat. 27°48′43″ N., long. 97°05′20″ W.)

Rockport, San Jose Island Airport, TX

(Lat. 27°56′40″ N., long. 96°59′06″ W.)

Rockport, Aransas County Airport, TX

(Lat. 28°05′10″ N., long. 97°02′37″ W.)

Ingleside, McCampbell-Porter Airport, TX

(Lat. 27°54′47″ N., long. 97°12′41″ W.)

Robstown, Nueces County Airport, TX

(Lat. 27°46′41″ N., long. 97°41′24″ W.)

Corpus Christi VORTAC, TX

(Lat. 27°54′14″ N., long. 97°26′42″ W.)

That airspace extending upward from 700 feet above the surface within a 7.5-mile radius of Corpus Christi International Airport and within 1.4 miles each side of the 200° radial of the Corpus Christi VORTAC extending from the 7.5-mile radius to 8.5 miles north of the airport, and within 1.5 miles each side of the 316° bearing from Corpus Christi International Airport extending from the 7.5-mile radius to 10.1 miles northwest of the airport, and within 2 miles each side of the 179° bearing from Corpus Christi International Airport extending from the 7.5-mile radius to 14 miles south of the airport, and within an 8.8-mile radius of Corpus Christi NAS/Truax Field, and within a 6.3-mile radius of Mustang Beach Airport, and within a 6.4-mile radius of McCampbell-Porter Airport, and within a 6.3-mile radius of Nueces County Airport, and within a 6.6-mile radius of Aransas County Airport, and within 2 miles each side of the 010° bearing from the Aransas County Airport extending from the 6.6-mile radius to 10 miles north of the airport, and within 2 miles each side of the 145° bearing from the Aransas County Airport extending from the 6.6-mile radius to 10 miles southeast of the airport, and within 2 miles each side of the 190° bearing from the Aransas County Airport extending from the 6.6-mile radius to 10 miles south of the airport, and within 2 miles each side of the 325° bearing from the Aransas County Airport extending from the 6.6-mile radius to 10 miles northwest of the airport, and within a 6.5-mile radius of San Jose Island Airport, and within 8 miles west and 4 miles east of the 327° bearing from the San Jose Island Airport extending from the airport to 20 miles northwest of the airport, and within 8 miles east and 4 miles west of the 147° bearing from San Jose Island Airport extending from the airport to 16 miles southeast of the airport, excluding that portion more than 12 miles from and parallel to the shoreline.

* * * * *

ASW TX E5 Dallas/Fort Worth, TX [Amended]

Dallas/Fort Worth International Airport, TX

(Lat. 32°53′50″ N., long. 97°02′16″ W.)

McKinney, McKinney National Airport, TX

(Lat. 33°10′37″ N., long. 96°35′20″ W.)

Rockwall, Ralph M. Hall/Rockwall Municipal Airport, TX

(Lat. 32°55′50″ N., long. 96°26′08″ W.)

Mesquite, Mesquite Metro Airport, TX

(Lat. 32°44′49″ N., long. 96°31′50″ W.)

Mesquite NDB

(Lat. 32°48′34″ N., long. 96°31′45″ W.)

Mesquite Metro ILS Localizer

(Lat. 32°44′03″ N., long. 96°31′50″ W.)

Lancaster, Lancaster Airport, TX

(Lat. 32°34′39″ N., long. 96°43′03″ W.)

Point of Origin

(Lat. 32°51′57″ N., long. 97°01′41″ W.)

Fort Worth, Fort Worth Spinks Airport, TX

(Lat. 32°33′55″ N., long. 97°18′29″ W.)

Cleburne, Cleburne Regional Airport, TX

(Lat. 32°21′14″ N., long. 97°26′02″ W.)

Fort Worth, Bourland Field Airport, TX

(Lat. 32°34′55″ N., long. 97°35′27″ W.)

Granbury, Granbury Regional Airport, TX

(Lat. 32°26′40″ N., long. 97°49′01″ W.)

Weatherford, Parker County Airport, TX

(Lat. 32°44′47″ N., long. 97°40′57″ W.)

Bridgeport, Bridgeport Municipal Airport, TX

(Lat. 33°10′31″ N., long. 97°49′42″ W.)

Decatur, Decatur Municipal Airport, TX

(Lat. 33°15′15″ N., long. 97°34′50″ W.)

That airspace extending upward from 700 feet above the surface within a 30-mile radius of Dallas-Fort Worth International Airport, and within a 6.6-mile radius of McKinney National Airport, and within 1.8 miles each side of the 002° bearing from McKinney National Airport extending from the 6.6-mile radius to 9.2 miles north of the airport, and within a 6.3-mile radius of Ralph M. Hall/Rockwall Municipal Airport, and within 1.6 miles each side of the 010° bearing from Ralph M. Hall/Rockwall Municipal Airport extending from the 6.3-mile radius to 10.8 miles north of the airport, and within a 6.5-mile radius of Mesquite Metro Airport, and within 8 miles east and 4 miles west of the 001° bearing from Mesquite NDB extending from the 6.5-mile radius to 19.7 miles north of the airport, and within 1.7 miles each side of the Mesquite Metro ILS Localizer south course extending from the 6.5-mile radius to 11.1 miles south of the airport, and within a 6.6-mile radius of Lancaster Airport, and within 1.9 miles each side of the 140° bearing from Lancaster Airport from the 6.6-mile radius to 9.2 miles southeast of the airport, and within 8 miles northeast and 4 miles southwest of the 144° bearing from the Point of Origin extending from the 30-mile radius of Dallas/Fort Worth International Airport to 35 miles southeast of the Point of Origin, and within a 6.5-mile radius of Fort Worth Spinks Airport, and within 8 miles east and 4 miles west of the 178° bearing from Fort Worth Spinks Airport extending from the 6.5-mile radius to 21 miles south of the airport, and within a 6.9-mile radius of Cleburne Regional Airport, and within 3.6 miles each side of the 292° bearing from the airport extending from the 6.9-mile radius to 12.2 miles northwest of Cleburne Regional Airport, and within a 6.5-mile radius of Fort Worth's Bourland Field Airport, and within a 6.3-mile radius of Granbury Regional Airport, and within a 6.3-mile radius of Weatherford's Parker County Airport, and within 8 miles east and 4 miles west of the 177° bearing from Parker County Airport extending from the 6.3-mile radius to 21.4 miles south of the airport, and within a 6.3-mile radius of Bridgeport Municipal Airport, and within 1.6 miles each side of the 040° bearing from Bridgeport Municipal Airport extending from the 6.3-mile radius to 10.6 miles northeast of the airport, and within 4 miles each side of the 001° bearing from Bridgeport Municipal Airport extending from the 6.3-mile radius to 10.7 miles north of the airport, and within a 6.3-mile radius of Decatur Municipal Airport, and within 1.5 miles each side of the 263° bearing from Decatur Municipal Airport extending from the 6.3-mile radius to 9.2 miles west of the airport.

* * * * *

ASW TX E5 Gainesville, TX [Amended]

Gainesville Municipal Airport, TX

(Lat. 33°39′08″ N., long. 97°11′50″ W.)

That airspace extending upward from 700 feet above the surface within a 6.6-mile radius of Gainesville Municipal Airport.

* * * * *

ASW TX E5 Georgetown, TX [Amended]

Georgetown Municipal Airport, TX

(Lat. 30°40′44″ N., long. 97°40′46″ W.)

That airspace extending upward from 700 feet above the surface within a 6.6-mile radius of Georgetown Municipal Airport, and within 2.0 miles each side of the 301° bearing from the airport extending from the 6.6-mile radius to 9.8 miles northwest of the airport, and within 2 miles each side of the 004° bearing from the airport extending from the 6.6-mile radius to 10.4 miles north of the airport.

* * * * *

ASW TX E5 Hebbronville, TX [Amended]

Hebbronville, Jim Hogg County Airport, TX

(Lat. 27°20′58″ N., long. 98°44′13″ W.)

Realitos, O.S. Wyatt Airport, TX

(Lat. 27°25′18″ N., long. 98°36′16″ W.)

Hebbronville NDB

(Lat. 27°21′14″ N., long. 98°44′39″ W.)

That airspace extending upward from 700 feet above the surface within a 6.5-mile radius of Jim Hogg County Airport and within 2.5 miles each side of the 325° bearing from the Hebbronville NDB extending from the 6.5-mile radius to 7.5 miles northwest of the airport and within a 6.5-mile radius of O.S. Wyatt Airport.

* * * * *

ASW TX E5 Jasper, TX [Amended]

Jasper, Jasper County-Bell Field, TX

(Lat. 30°53′09″ N., long. 94°02′06″ W.)

The airspace extending upward from 700 feet above the surface within a 6.6-mile radius of Jasper County-Bell Field and within 1.6 miles each side of the 001° bearing from the airport from the 6.6-mile radius to 6.7 miles north of the airport.

* * * * *

ASW TX E5 Sinton, TX [Amended]

Sinton, San Patricio County Airport, TX

(Lat. 28°02′19″ N., long. 97°32′32″ W.)

Corpus Christi VORTAC

(Lat. 27°54′14″ N., long. 97°26′42″ W.)

That airspace extending upward from 700 feet above the surface within a 6.4-mile radius of San Patricio County Airport and within 1.3 miles each side of the 328° radial of the Corpus Christi VORTAC extending from the 6.4-mile radius to 9.6 miles southeast of the airport.

Issued in Fort Worth, Texas, on August 24, 2016.
Walter Tweedy,
Acting Manager, Operations Support Group, ATO Central Service Center.

[FR Doc. 2016-21028 Filed 9-7-16; 8:45 am]

BILLING CODE 4910-13-P